DEPARTMENT OF COMMERCE

National Oceanic and Atmospheric Administration

RIN 0648-XG069

Surveys of Marine Recreational Fishing Effort on the U.S. Atlantic Coast and in the Gulf of Mexico; Marine Recreational Information Program (MRIP); Center for Independent Experts; Public Meeting

AGENCY: National Marine Fisheries Service (NMFS), National Oceanic and Atmospheric Administration (NOAA), Commerce.

ACTION: Notice of public meeting.

SUMMARY: The Access-Point Angler Intercept Survey (APAIS), which collects information on angler catch from Maine to Louisiana, was redesigned prior to implementation in 2013. A conversion factor is needed to account for any consistent effects of the redesign on catch rate estimates produced by the APAIS. NMFS is convening a peer review of a statistical approach proposed for the conversion by the Marine Recreational Information Program (MRIP). Applying the conversion factor to APAIS estimates produced prior to 2013 will provide revised historical catch statistics that are comparable to those produced by the new APAIS. The revised estimates will be used in fisheries science and management.

The peer review includes reviewers appointed by the Center for Independent Experts (CIE), as well as reviewers recommended by the Atlantic States Marine Fisheries Commission (ASMFC), and the New England, Mid-Atlantic, South Atlantic, and Gulf of Mexico Regional Fishery Management Councils. This notice lists the time and place of the Peer Review Workshop.

DATES: The Workshop will be held from 9 a.m. on March 20, 2018, until 12 p.m. on March 22, 2018.

ADDRESSES: The Workshop will be held at the Sheraton Hotel, 8777 Georgia Avenue, Silver Spring, MD 20910; Phone: 301/589-0800.

FOR FURTHER INFORMATION CONTACT: Dr. David Van Voorhees, Chief of Fisheries Statistics Division of NMFS Office of Science and Technology; phone 301/427-8189; FAX 301/427-4520; email: Dave.Van.Voorhees@noaa.gov.

SUPPLEMENTARY INFORMATION: On the Atlantic and Gulf coasts, APAIS is conducted at public marine fishing access points (boat ramps, marinas, piers, beaches, jetties, and bridges) to collect representative data on individual angler fishing trips. The catch data collected include: Species identification, total number of each species caught, length and weight measurements of individual fish, as well as the numbers and disposition of fish caught. Catch data are combined with information from MRIP effort surveys to produce an estimate of total recreational catch. This estimate is then combined with other sources of information to assess the health of U.S. fish stocks, set catch limits, and inform the regulatory process.

The Peer Review Workshop will provide an assessment of the statistical approach developed by MRIP for this purpose. The product of the Workshop will be a summary report documenting panel opinions regarding the strengths and weaknesses of the proposed conversion approach. The panel of reviewers will include individuals selected by the Center for Independent Experts (CIE) as well as individuals selected by the Regional Fishery Management Councils and ASMFC. The panel will be chaired by an individual also selected by the Councils and ASMFC. The agenda is subject to change, and the latest version will be posted at http://www.countmyfish.noaa.gov. The workshop will also be accessible by webinar in listen-only mode. Requests for webinar access should be directed to NMFS (see FOR FURTHER INFORMATION CONTACT) three days prior to the workshop.

Special Accommodations

This workshop will be physically accessible to people with disabilities. Requests for auxiliary aids should be directed to NMFS (see FOR FURTHER INFORMATION CONTACT) three (3) days prior to the meeting.

Note: The times and sequence specified in the agenda are subject to change.

Authority: 16 U.S.C. 1801 et seq.

Dated: March 1, 2018.
Edward C. Cyr,
Director, Office of Science and Technology, National Marine Fisheries Service.

[FR Doc. 2018-04571 Filed 3-6-18; 8:45 am]

BILLING CODE 3510-22-P